COMMISSION ON CIVIL RIGHTS

Agenda and Notice of Public Meeting of the Wyoming Advisory Committee

AGENCY: Commission on Civil Rights.

ACTION: Announcement of meeting.

SUMMARY: Notice is hereby given, pursuant to the provisions of the rules and regulations of the U.S. Commission on Civil Rights (Commission), and the Federal Advisory Committee Act (FACA), that a planning meeting of the Wyoming Advisory Committee to the Commission will convene at 10:00 a.m. (MDT) on Thursday, June 11, 2015, via teleconference. The purpose of the planning meeting is for the Advisory Committee to discuss civil rights issues in the state and select issues for further study.

DATES: Thursday, June 11, 2015, at 10:00 a.m. (MDT)

ADDRESSES: To be held via teleconference:

Conference Call Toll-Free Number: 1-888-523-1228; Conference ID: 6982953.

TDD: Dial Federal Relay Service 1-800-977-8339 and give the operator the above conference call number and conference ID.

FOR FURTHER INFORMATION CONTACT: Malee V. Craft, DFO, mcraft@usccr.gov, 303-866-1040.

SUPPLEMENTARY INFORMATION: Members of the public may listen to the discussion by dialing the following Conference Call Toll-Free Number: 1-888-523-1228, Conference ID: 6982953. An open comment period will be provided to allow members of the public to make a statement at the end of the meeting. Please be advised that before being placed into the conference call, the operator will ask callers to provide their names, their organizational affiliations (if any), and an email address (if available) prior to placing callers into the conference room. Callers can expect to incur charges for calls they initiate over wireless lines, and the Commission will not refund any incurred charges. Callers will incur no charge for calls they initiate over land-line connections to the toll-free phone number.

Persons with hearing impairments may also follow the discussion by first calling the Federal Relay Service (FRS) at 1-800-977-8339 and provide the FRS operator with the Conference Call Toll-Free Number: 1-888-523-1228; Conference ID: 6982953.

Members of the public are invited to submit written comments; the comments must be received in the regional office by Monday, July 13, 2015. Written comments may be mailed to the Rocky Mountain Regional Office, U.S. Commission on Civil Rights, 1961 Stout Street, Suite 13-201, Denver, CO 80294, faxed to (303) 866-1040, or emailed to Evelyn Bohor at ebohor@usccr.gov. Persons who desire additional information may contact the Rocky Mountain Regional Office at (303) 866-1040.

Records and documents discussed during the meeting will be available for public viewing as they become available at http://facadatabase.gov/committee/meetings.aspx?cid=283 and clicking on the “Meeting Details” and “Documents” links. Records generated from this meeting may also be inspected and reproduced at the Rocky Mountain Regional Office, as they become available, both before and after the meeting. Persons interested in the work of this advisory committee are advised to go to the Commission's Web site, www.usccr.gov, or to contact the Rocky Mountain Regional Office at the above phone number, email or street address.

Agenda

Welcome and Introductions

Sleeter Dover, Chair

Civil Rights Discussion and Select Issues for Further Study

Wyoming State Advisory Committee

Administrative Matters

Malee V. Craft, Designated Federal Official (DFO)

Open Comment

Dated: May 15, 2015.
David Mussatt,
Chief, Regional Programs Unit.

[FR Doc. 2015-12162 Filed 5-19-15; 8:45 am]

BILLING CODE 6335-01-P